DEPARTMENT OF COMMERCE

Foreign-Trade Zones Board

[Order No. 1504]

Expansion of Foreign-Trade Zone 49; Newark, New Jersey

Pursuant to its authority under the Foreign-Trade Zones Act of June 18, 1934, as amended (19 U.S.C. 81a-81u), the Foreign-Trade Zones Board (the Board) adopts the following Order:

Whereas, the Port Authority of New York and New Jersey, grantee of Foreign-Trade Zone 49, submitted an application to the Board for authority to expand FTZ 49 in the Newark area to include additional sites at the I-Port 12 industrial park (Site 7) in Carteret, the I-Port 440 industrial park (Site 8) in Perth Amboy, the Port Reading Business Park (Site 9) in Woodbridge, and, the Port Elizabeth Business Park (Site 10) in Elizabeth, within the Newark/New York Customs and Border Protection port of entry (FTZ Docket 23-2006; filed 6/14/06);

Whereas, notice inviting public comment was given in the Federal Register (71 FR 35611, 6/21/06), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 49 is approved, subject to the FTZ Act and the Board's regulations, including Section 400.28, and further subject to the Board's standard 2,000-acre activation limit for the overall zone project and a sunset provision for Sites 7 through 10 that would terminate authority for the sites on March 31, 2014, for any of the sites that have not been activated under FTZ procedures before that date.

Signed at Washington, DC this 28th day of February 2007.
David M. Spooner,
Assistant Secretary of Commerce for Import Administration, Alternate Chairman, Foreign-Trade Zones Board.
Attest:
Andrew McGilvray,
Executive Secretary.

[FR Doc. E7-4287 Filed 3-8-07; 8:45 am]

BILLING CODE 3510-DS-P